Proclamation 9226 of December 31, 2014

National Stalking Awareness Month, 2015

By the President of the United States of America

A Proclamation

In every State across our Nation, stalking is a crime. It is unacceptable behavior that violates the most basic principles of respect and decency, infringing on our fundamental right to feel safe and secure. At some point in their lives, 1 in 6 American women will be stalked. This abuse creates distress and takes a profound toll on its victims and our communities. This month, we extend our support to all those who have experienced stalking, and we renew our commitment to shine a light on this injustice.

Stalking is a pattern of unwanted contact—which can include text messages, emails, and phone calls—that causes an individual to fear for their safety or the safety of loved ones. While young women are disproportionately at risk, anyone can be a victim, including children and men. Individuals who are stalked often know the perpetrator, but stalkers can also be acquaintances or strangers. Stalking is a serious offense with significant consequences. It is often detrimental to the physical and emotional well-being of the victim, and some are forced to move or change jobs. This behavior often escalates over time, and is sometimes followed by sexual assault or homicide.

Addressing this hidden crime is part of my Administration's comprehensive strategy to combat violence against women, and stalking is one of the four areas addressed by the Violence Against Women Act. When I proudly signed the reauthorization of this historic law, we bolstered many of its provisions, including expanding safeguards against cyberstalking and protections for immigrants who have been victims of stalking. Across the Federal Government, we are building strong partnerships with those working to break the cycle of this abuse, and we remain dedicated to ending violence against women and men in all its forms.

Our homes, schools, offices, and neighborhoods should be places where Americans feel secure and confident. During National Stalking Awareness Month, we join with the advocates, families, professionals, and survivors to amplify their refrain: If you are a victim of stalking, you are not alone. Together, let us continue to raise awareness of this violence and recommit to being part of the solution.

NOW, THEREFORE, I, BARACK OBAMA, President of the United States of America, by virtue of the authority vested in me by the Constitution and the laws of the United States, do hereby proclaim January 2015 as National Stalking Awareness Month. I call upon all Americans to recognize the signs of stalking, acknowledge stalking as a serious crime, and urge those affected not to be afraid to speak out or ask for help. Let us also resolve to support victims and survivors, and to create communities that are secure and supportive for all Americans.

IN WITNESS WHEREOF, I have hereunto set my hand this thirty-first day of December, in the year of our Lord two thousand fourteen, and of the Independence of the United States of America the two hundred and thirty-ninth.

[FR Doc. 2015-00077

Filed 1-6-15; 8:45 am]

Billing code 3295-F5